FEDERAL COMMUNICATIONS COMMISSION

47 CFR Part 64

[CG Docket No. 17-59; Report No. 3173; FRS 27311]

Petition for Reconsideration of Action in Rulemaking Proceeding

AGENCY: Federal Communications Commission.

ACTION: Petition for Reconsideration.

SUMMARY: Petition for Reconsideration (Petition) has been filed in the Commission's rulemaking proceeding by Joshua M. Bercu, on behalf of USTelecom—The Broadband Association.

DATES: Oppositions to the Petition must be filed on or before June 4, 2021. Replies to an opposition must be filed on or before June 14, 2021.

ADDRESSES: Federal Communications Commission, 45 L Street NE, Washington, DC 20554.

FOR FURTHER INFORMATION CONTACT: Jerusha Burnett, Consumer and Governmental Affairs Bureau, (202) 418-0526 or Jerusha.Burnett@fcc.gov.

SUPPLEMENTARY INFORMATION: This is a summary of the Commission's document, Report No. 3173, released May 11, 2021. The full text of the Petition can be accessed online via the Commission's Electronic Comment Filing System at: http://apps.fcc.gov/ecfs/. The Commission will not send a Congressional Review Act (CRA) submission to Congress or the Government Accountability Office pursuant to the CRA, 5 U.S.C. 801(a)(1)(A), because no rules are being adopted by the Commission.

Subject: Advanced Methods to Target and Eliminate Unlawful Robocalls, published 86 FR 17726, April 6, 2021, in CG Docket No 17-59. This document is being published pursuant to 47 CFR 1.429(e). See also 47 CFR 1.4(b)(1) and 1.429(f), (g).

Number of Petitions Filed: 1.

Federal Communications Commission.
Marlene Dortch,
Secretary, Office of the Secretary.

[FR Doc. 2021-10600 Filed 5-19-21; 8:45 am]

BILLING CODE 6712-01-P